NATIONAL ARCHIVES AND RECORDS ADMINISTRATION

36 CFR Part 1253

RIN 3095-AB30

NARA Facilities; Phone Numbers

AGENCY: National Archives and Records Administration (NARA).

ACTION: Final rule.

SUMMARY: The National Archives and Records Administration is updating the phone numbers for its Presidential libraries and regional records services facilities. The Presidential libraries and regional records services facilities are open to the public and other Federal agency staff for visitation and use of records for research. This final rule affects the public.

DATES: Effective Date: June 14, 2004.

FOR FURTHER INFORMATION CONTACT: Kim Richardson at telephone number 301-837-2902 or fax number 301-837-0319.

SUPPLEMENTARY INFORMATION: This rule is effective upon publication for good cause as permitted by the Administrative Procedure Act (5 U.S.C. 553(d)(3)). NARA believes that delaying the effective date for 30 days is unnecessary as this rule represents minor technical amendments. Moreover, as the public benefits immediately being provided with corrections to phone numbers for Presidential libraries and the regional records services facilities, any delay in the effective date would be contrary to the public interest.

This rule is not a significant regulatory action for the purposes of Executive Order 12866 and has not been reviewed by the Office of Management and Budget. This rule is not a major rule as defined in 5 U.S.C. chapter 8, Congressional Review of Agency Rulemaking. As required by the Regulatory Flexibility Act, I certify that this rule will not have a significant impact on a substantial number of small entities. This regulation does not have any federalism implications.

List of Subjects in 36 CFR Part 1253

Archives and records.

For the reasons set forth in the preamble, NARA amends part 1253 of title 36, Code of Federal Regulations, chapter XII, as follows:

PART 1253—LOCATION OF RECORDS AND HOURS OF USE

1. The authority citation for Part 1253 continues to read as follows:

Authority: 44 U.S.C. 2104(a).

2. Amend § 1253.3 by revising paragraphs (a) through (i) to read as follows:

§ 1253.3 Presidential Libraries.

* * * * *

(a) Herbert Hoover Library is located at 210 Parkside Dr., West Branch, IA (mailing address: PO Box 488, West Branch, IA 52358-0488). The phone number is 319-643-5301 and the fax number is 319-643-6045. The e-mail address is hoover.library@nara.gov.

(b) Franklin D. Roosevelt Library is located at 4079 Albany Post Rd., Hyde Park, NY 12538-1999. The phone number is 800-FDR-VISIT or 845-486-7770 and the fax number is 845-486-1147. The e-mail address is roosevelt.library@nara.gov.

(c) Harry S. Truman Library is located at 500 W. U.S. Hwy 24, Independence, MO 64050-1798. The phone number is 800-833-1225 or 816-268-8200 and the fax number is 816-268-8295. The e-mail address is truman.library@nara.gov.

(d) Dwight D. Eisenhower Library is located at 200 SE. Fourth Street, Abilene, KS 67410-2900. The phone number is 877-RING-IKE or 785-263-4751 and the fax number is 785-263-6718. The e-mail address is eisenhower.library@nara.gov.

(e) John Fitzgerald Kennedy Library is located at Columbia Point, Boston, MA 02125-3398. The phone number is 866-JFK-1960 or 617-514-1600 and the fax number is 617-514-1652. The e-mail address is kennedy.library@nara.gov.

(f) Lyndon Baines Johnson Library and Museum is located at 2313 Red River St., Austin, TX 78705-5702. The phone number is 512-721-0200 and the fax number is 512-721-0170. The e-mail address is johnson.library@nara.gov.

(g) Gerald R. Ford Library is located at 1000 Beal Avenue, Ann Arbor, MI 48109-2114. The phone number is 734-205-0555 and the fax number is 734-205-0571. The e-mail address is ford.library@nara.gov. Gerald R. Ford Museum is located at 303 Pearl St., Grand Rapids, MI 49504-5353. The phone number is 616-254-0400 and the fax number is 616-254-0386. The e-mail address is ford.museum@nara.gov.

(h) Jimmy Carter Library is located at 441 Freedom Parkway, Atlanta, GA 30307-1498. The phone number is 404-865-7100 and the fax number is 404-865-7102. The e-mail address is carter.library@nara.gov.

(i) Ronald Reagan Library is located at 40 Presidential Dr., Simi Valley, CA 93065-0699. The phone number is 800-410-8354 or 805-577-4000 and the fax number is 805-577-4074. The e-mail address is reagan.library@nara.gov.

* * * * *

3. Amend § 1253.6 by revising paragraphs (b) through (f) and (j), (k), and (m) to read as follows:

§ 1253.6 Records Centers.

* * * * *

(b) NARA—Northeast Region (Pittsfield, MA) is located at 10 Conte Drive, Pittsfield, MA 02101. Hours are 8 a.m. to 4:30 p.m. The telephone number is 413-236-3600.

(c) NARA—Mid Atlantic Region (Northeast Philadelphia) is located at 14700 Townsend Rd., Philadelphia, PA 19154-1096. The hours are 8 a.m. to 4:30 p.m., Monday through Friday. The telephone number is 215-305-2000.

(d) NARA—Southeast Region (Atlanta) is located at 1557 St. Joseph Ave., East Point, GA 30344-2593. The hours are 7 a.m. to 4 p.m., Monday through Friday. The telephone number is 404-763-7474.

(e) NARA—Great Lakes Region (Dayton) is located at 3150 Springboro Road, Dayton, OH, 45439. The hours are 7:00 a.m. to 4:30 p.m., Monday through Friday. The telephone number is 937-425-0600.

(f) NARA—Great Lakes Region (Chicago) is located at 7358 S. Pulaski Rd., Chicago, IL 60629-5898. The hours are 8 a.m. to 4:30 p.m., Monday through Friday. The telephone number is 773-948-9000.

* * * * *

(j) NARA—Rocky Mountain Region (Denver) is located at Building 48, Denver Federal Center, West 6th Ave. and Kipling Street, Denver, CO (mailing address: PO Box 25307, Denver, CO 80225-0307). The hours are 7:30 a.m. to 4 p.m., Monday through Friday. The telephone number is 303-407-5700.

(k) NARA—Pacific Region (San Francisco) is located at 1000 Commodore Dr., San Bruno, CA 94066-2350. The hours are 7:30 a.m. to 4 p.m., Monday through Friday. The telephone number is 650-238-3500.

* * * * *

(m) NARA—Pacific Alaska Region (Seattle) is located at 6125 Sand Point Way, NE., Seattle, WA 98115-7999. The hours are 7:45 a.m. to 4:15 p.m., Monday through Friday. The telephone number is 206-336-5115.

4. Amend § 1253.7 by revising paragraphs (a), (d), (e), (f), and (i) through (m) to read as follows:

§ 1253.7 Regional Archives.

* * * * *

(a) NARA—Northeast Region (Boston) is located in the Frederick C. Murphy Federal Center, 380 Trapelo Rd., Waltham, MA 02452. Hours are 8 a.m. to 4:30 p.m., Monday through Friday. The telephone number is 781-663-0144 or Toll Free 1-866-406-2379.

* * * * *

(d) NARA—Mid Atlantic Region (Center City Philadelphia) is located at the Robert N.C. Nix Federal Building, 900 Market St., Philadelphia, PA 19107-4292 (Entrance is on Chestnut Street between 9th and 10th Streets). The hours are 8 a.m. to 5 p.m., Monday through Friday. The telephone number is 215-606-0100.

(e) NARA—Southeast Region (Atlanta) is located at 1557 St. Joseph Ave., East Point, Georgia 30344-2593. The hours are 7 a.m. to 4 p.m., Monday through Friday. The telephone number is 404-763-7477.

(f) NARA—Great Lakes Region (Chicago) is located at 7358 S. Pulaski Rd., Chicago, IL 60629-5898. The hours are 8 a.m. to 4:15 p.m., Monday through Friday. The telephone number is 773-948-9000.

* * * * *

(i) NARA—Rocky Mountain Region (Denver) Textual Research room is located at Building 48, Denver Federal Center, West 6th Ave. and Kipling Street, Denver, CO. The hours are 7:30 a.m. to 3:45 p.m., Monday through Friday. The telephone number is 303-407-5740. The Microfilm Research room is located at Building 46, Denver Federal Center, West 6th Ave. and Kipling Street, Denver, CO. (The mailing address: PO Box 25307, Denver, CO 80225-0307). The hours are 7:30 a.m. to 3:45 p.m., Monday through Friday. The telephone number is 303-407-5751.

(j) NARA—Pacific Region (Laguna Niguel, CA) is located at 24000 Avila Rd., 1st Floor East Entrance, Laguna Niguel, CA, 92677-6719. The hours are 8 a.m. to 4:30 p.m., Monday through Friday. The telephone number is 949-360-2641.

(k) NARA—Pacific Region (San Francisco) is located at 1000 Commodore Dr., San Bruno, CA 94066-2350. The hours are 7:30 a.m. to 4 p.m., Monday through Friday. The telephone number is 650-238-3501.

(l) NARA—Pacific Alaska Region (Seattle) is located at 6125 Sand Point Way, NE., Seattle, WA 98115-7999. The hours are 7:45 a.m. to 4:15 p.m., Monday through Friday. The telephone number is 206-336-5115.

(m) NARA—Pacific Alaska Region (Anchorage) is located at 654 West Third Avenue, Anchorage, AK 99501-2145. The hours are 8 a.m. to 4 p.m., Monday through Friday. The telephone number is 907-261-7820.

* * * * *

Dated: June 3, 2004.
John W. Carlin,
Archivist of the United States.

[FR Doc. 04-13196 Filed 6-10-04; 8:45 am]

BILLING CODE 7515-01-P